DEPARTMENT OF DEFENSE

Office of the Secretary

[Transmittal No. 23-28]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-28 and Policy Justification.

Dated: September 18, 2024.
Aaron T. Siegel,
Alternate OSD Federal Register Liaison Officer, Department of Defense.

BILLING CODE 6001-FR-P

BILLING CODE 6001-FR-C

Transmittal No. 23-28

Notice of Proposed Issuance of Letter of Offer Pursuant to Section 36(b)(1) of the Arms Export Control Act, as amended

(i) Prospective Purchaser: Government of Latvia

(ii) Total Estimated Value:

Major Defense Equipment * | $ 0 million
Other | $ 110 million
TOTAL | $ 110 million

Funding Source: National Funds and Foreign Military Financing

(iii) Description and Quantity or Quantities of Articles or Services under Consideration for Purchase:

Major Defense Equipment (MDE):

None

Non-MDE:

Included is a Naval Strike Missile Coastal Defense System (NSM CDS), including tactical, telemetered, and training missiles; containers; mobile operational platforms; integration equipment; ordnance handling equipment (OHE); training equipment and aids; technical publications and data; training; spares; U.S. Government and contractor technical and product support or assistance; and other related elements of logistical and program support.

(iv) Military Department: Navy (LG-P-SAB)

(v) Prior Related Cases, if any: None

(vi) Sales Commission, Fee, etc., Paid, Offered, or Agreed to be Paid: None

(vii) Sensitivity of Technology Contained in the Defense Article or Defense Services Proposed to be Sold: None

(viii) Date Report Delivered to Congress: May 2, 2023

* As defined in Section 47(6) of the Arms Export Control Act.

POLICY JUSTIFICATION

Latvia—Naval Strike Missile Coastal Defense System

The Government of Latvia has requested to buy a Naval Strike Missile Coastal Defense System (NSM CDS), including tactical, telemetered, and training missiles; containers; mobile operational platforms; integration equipment; ordnance handling equipment (OHE); training equipment and aids; technical publications and data; training; spares; U.S. Government and contractor technical and product support or assistance; and other related elements of logistical and program support. The estimated total cost is $110 million.

This proposed sale will support the foreign policy goals and national security objectives of the United States by improving the security of a NATO ally that is an important force for political stability and economic progress in Europe.

The proposed sale will improve Latvia's capability to meet current and future threats in the Baltic Sea maritime domain. Latvia's increased coastal defense capability and interoperability with U.S. and NATO armed forces will contribute to both U.S. and Latvian defense and security objectives in the Baltics. Latvia will have no difficulty absorbing this equipment into its armed forces.

The proposed sale of this equipment and support will not alter the basic military balance in the region.

The principal contractor is to be determined. There are no known offset agreements proposed in connection with this potential sale.

Implementation of this proposed sale will not require the assignment of any U.S. Government or contractor representatives to Latvia.

There will be no adverse impact on U.S. defense readiness as a result of this proposed sale.

[FR Doc. 2024-21701 Filed 9-20-24; 8:45 am]

BILLING CODE 6001-FR-P